DEPARTMENT OF AGRICULTURE

Forest Service

Western Washington Cascades Provincial Interagency Executive Committee (PIEC) Advisory Committee

AGENCY: Forest Service, USDA.

ACTION: Notice of meeting.

SUMMARY: The Western Washington Cascades Provincial Interagency Executive Committee Advisory Committee (Provincial Advisory Committee) will meet on Tuesday, October 23rd, 2001, at the Mt. Baker-Snoqualmie National Forest Headquarters, 21905 64th Avenue West, in Mountlake Terrace, WA.

The meeting will begin at 9 a.m. and continue until about 3 p.m. Agenda items to be covered include: (1) Review and feedback regarding key elements to be included in the Adaptive Management Area Plan for the Finney, (2) updates regarding current Forest Service initiatives, (3) review and feedback regarding vegetation management plans on the Forest, and (4) review and discussion of study results from the Forest Ecologist. All Western Washington Cascades Provincial Advisory Committee meetings are open to the public. Interested citizens are encouraged to attend.

The Provincial Advisory Committee provides advice regarding ecosystem management for federal lands within the Western Washington Cascades Province, as well as advice and recommendations to promote better integration of forest management activities among federal and non-federal entities. The Advisory Committee is a key element of implementation of the Northwest Forest Plan.

FOR FURTHER INFORMATION CONTACT: Direct questions regarding this meeting to Penny Sundblad, Province Liaison, USDA Forest Service, Mt. Baker-Snoqualmie National Forest, 810 State Route 20, Sedro-Woolley, Washington 98284 (360-856-5700, Extension 321).

Dated: September 27, 2001.
Ronald R. DeHart,
Designated Federal Official.

[FR Doc. 01-24871 Filed 10-3-01; 8:45 am]

BILLING CODE 3410-11-M